DEPARTMENT OF HEALTH AND HUMAN SERVICES

Centers for Disease Control and Prevention

[30Day-19-19VJ]

Agency Forms Undergoing Paperwork Reduction Act Review

In accordance with the Paperwork Reduction Act of 1995, the Centers for Disease Control and Prevention (CDC) has submitted the information collection request titled, The Childcare Survey of Activity and Wellness (C-SAW) Pilot Study to the Office of Management and Budget (OMB) for review and approval. CDC previously published a “Proposed Data Collection Submitted for Public Comment and Recommendations” notice on April 2, 2019 to obtain comments from the public and affected agencies. CDC received two public comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

The Childcare Survey of Activity and Wellness (C-SAW) Pilot Study—New—National Center for Chronic Disease Prevention and Health Promotion (NCCDPHP), Centers for Disease Control and Prevention (CDC).

Background and Brief Description

The Centers for Disease Control and Prevention (CDC) works to promote optimal nutrition, physical activity, and wellness in early care and education (ECE) facilities for children 0-5 years of age. Data collected from this pilot survey will be used to understand the current practices of ECE centers in a representative sample in four states. The survey will also be used to inform the development of a potential national surveillance system.

A sample of approximately 1,266 ECE centers across four states will be selected to participate in this one-time data collection effort. However, it is estimated that approximately 10% of the original sample will be out of business or otherwise ineligible, yielding an actual sample of 1,140 ECEs to be recruited. Each center will receive a recruitment letter introducing the survey, and instructions for completing the survey. It is anticipated that most responses will be submitted through the web. However, paper surveys will be available upon request. It is also anticipated that the response rate will be approximately 55% based on a review of recent surveys of child care centers conducted by the Federal government. Thus, we anticipate the number of completed surveys to be 627. CDC requests approval for an estimated 409 Burden Hours. Participation in this study is completely voluntary and there are no costs to the respondent other than their time.

Estimated Annualized Burden Hours
Type of respondents | Form name | Number of respondents | Number of responses per respondent | Average burden per response (in hours)
ECE Director or Administrator | Recruitment Letter | 1,140 | 1 | 5/60
ECE Director or Administrator | Web/Mail Survey | 627 | 1 | 30/60

Jeffrey M. Zirger,
Lead, Information Collection Review Office, Office of Scientific Integrity, Office of Science, Centers for Disease Control and Prevention.

[FR Doc. 2019-18279 Filed 8-23-19; 8:45 am]

BILLING CODE 4163-18-P